FEDERAL DEPOSIT INSURANCE CORPORATION

Designated Reserve Ratio for 2021

AGENCY: Federal Deposit Insurance Corporation.

ACTION: Notice of Designated Reserve Ratio for 2021.

SUMMARY: Pursuant to the Federal Deposit Insurance Act, the Board of Directors of the Federal Deposit Insurance Corporation designates that the Designated Reserve Ratio (DRR) for the Deposit Insurance Fund shall remain at 2 percent for 2021.¹ The Board is publishing this notice as required by the Federal Deposit Insurance Act.

¹ Section 327.4(g) of the FDIC's regulations sets forth the DRR. See 12 CFR 327.4(g). There is no need to amend this provision, because the DRR for 2021 is the same as the current DRR.

FOR FURTHER INFORMATION CONTACT: Ashley Mihalik, Chief, Banking and Regulatory Policy Section, Division of Insurance and Research, (202) 898-3793, amihalik@fdic.gov; Robert Grohal, Chief, Fund Analysis and Pricing Section, Division of Insurance and Research, (202) 898-6939, rgrohal@fdic.gov; or Nefretete Smith, Counsel, Legal Division, (202) 898-6851, nefsmith@fdic.gov.

Federal Deposit Insurance Corporation.
By order of the Board of Directors.
Dated at Washington, DC, on November 17, 2020.
James P. Sheesley,
Assistant Executive Secretary.

[FR Doc. 2020-25820 Filed 11-20-20; 8:45 am]

BILLING CODE 6714-01-P